DEPARTMENT OF THE INTERIOR

Office of Surface Mining Reclamation and Enforcement

30 CFR Part 950

[SATS No. WY-055-FOR; Docket ID: OSM-2025-0002; S1D1S SS08011000 SX064A000 256S180110; S2D2S SS08011000 SX064A000 25XS501520]

Wyoming Regulatory Program

AGENCY: Office of Surface Mining Reclamation and Enforcement, Interior.

ACTION: Proposed rule; public comment period and opportunity for public hearing on proposed amendment.

SUMMARY: We, the Office of Surface Mining Reclamation and Enforcement (OSMRE), are announcing receipt of a proposed regulatory amendment to the Wyoming coal program (Wyoming program) under the Surface Mining Control and Reclamation Act of 1977 (SMCRA or the Act). On January 19, 2024, and effective February 20, 2024, OSMRE approved with exceptions an amendment to Wyoming's regulations for coal exploration by drilling (SATS No. WY-050-FOR). In the final rule under “Revisions to Wyoming's Rules That We Are Not Approving,” we listed several provisions containing typographical errors that Wyoming would need to correct through a future program amendment.

DATES: We will accept written comments on this amendment until 4 p.m. MDT on July 28, 2025. If requested, we may hold a public hearing or meeting on the amendment on July 22, 2025. We will accept requests to speak at a hearing until 4 p.m. MDT on July 14, 2025.

ADDRESSES: You may submit comments, identified by SATS No. WY-055-FOR, by any of the following methods:

• Mail/Hand Delivery: OSMRE, Attn: Jeffrey Fleischman, P.O. Box 11018, 100 East B Street, Room 4100, Casper, Wyoming 82602.

• Fax: (307) 261-6552.

• Federal eRulemaking Portal: http://www.regulations.gov. Follow the instructions for submitting comments. The docket number is OSM-2025-0002.

Instructions: All submissions received must include the agency name and docket number for this rulemaking. For detailed instructions on submitting comments and additional information on the rulemaking process, see the “Public Comment Procedures” heading of the SUPPLEMENTARY INFORMATION section of this document.

Docket: For access to the docket to review copies of the Wyoming program, this amendment, a listing of any scheduled public hearings or meetings, and all written comments received in response to this document, you must go to the address listed below during normal business hours, Monday through Friday, excluding holidays. You may receive one free copy of the amendment by contacting OSMRE's Casper Field Office or the full text of the program amendment is available for you to read at www.regulations.gov.

Attn: Jeffrey Fleischman, Field Office Director, Office of Surface Mining Reclamation and Enforcement, 100 East B Street, Casper, Wyoming 82602, Telephone: (307) 261-6550, Email: jfleischman@osmre.gov.

In addition, you may review a copy of the amendment during regular business hours at the following location:

Attn: Brandi O'Brien, Administrator, Wyoming Department of Environmental Quality, Land, Quality Division, 200 West 17th Street, Suite 10, Cheyenne, Wyoming 82002, Telephone: (307) 777-7757, Email: brandi.obrien@wyo.gov.

FOR FURTHER INFORMATION CONTACT: Jeffrey Fleischman, Field Office Director, Office of Surface Mining Reclamation and Enforcement, 100 East B Street, Casper, Wyoming 82602, Telephone: (307) 261-6550, Email: jfleischman@osmre.gov.

SUPPLEMENTARY INFORMATION:

I. Background on the Wyoming Program

II. Description of the Proposed Amendment

III. Public Comment Procedures

IV. Statutory and Executive Order Review

I. Background on the Wyoming Program

Subject to OSMRE's oversight, section 503(a) of the Act permits a state to assume primacy for the regulation of surface coal mining and reclamation operations on non-Federal and non-Indian lands within its borders by demonstrating that its approved, State program includes, among other things, State laws and regulations that govern surface coal mining and reclamation operations in accordance with the Act and consistent with the Federal regulations. See 30 U.S.C. 1253(a)(1) and (7).

On the basis of these criteria, the Secretary of the Interior conditionally approved the Wyoming program on November 26, 1980. You can find background information on the Wyoming program, including the Secretary's findings, the disposition of comments, and conditions of approval of the Wyoming program in the November 26, 1980, Federal Register (45 FR 78637). You can also find later actions concerning the Wyoming program and program amendments at 30 CFR 950.10.

II. Description of the Proposed Amendment

By letter dated June 4, 2021, Wyoming sent us an amendment (Document ID No. OSM-2021-0004; SATS No. WY-050-FOR) to its program under SMCRA (30 U.S.C. 1201 et seq.). We found Wyoming's proposed amendment administratively complete on July 13, 2021.

Between 1978 and 2007, the Wyoming State legislature enacted a number of revisions to its statutes governing coal exploration by drilling. The proposed statutory revisions reflected organizational updates at the Wyoming Land Quality Division, corrected a typographical error, provided more detailed instructions for plugging and sealing drill holes, incorporated provisions for the awarding of attorney fees and other litigation costs, and included more detailed instructions for bond release. In addition to the statutory changes, on March 2, 2016, the Wyoming Environmental Quality Council approved several revisions to chapter 14 of the Land Quality Division Coal Rules and Regulations governing coal exploration by drilling, which were last updated in 1998. Specifically, the rules were updated to include best management practices and standards adopted by the Wyoming State Engineer's Office that conform with accepted practices established by the American Society for Testing and Materials, the American Water Works Association, and the Wyoming DEQ—Water Quality Division regulations. Other revisions included a list of acceptable grout materials, requirements to plug and immediately cap the entire drill hole, additional identification numbers to facilitate inspections, and minor formatting and organizational changes. Accordingly, the State submitted this proposal to OSMRE on its own initiative.

On January 19, 2024, OSMRE approved with exceptions the WY-050-FOR amendment, effective February 20, 2024 (89 FR 3562). In the final rule under “Revisions to Wyoming's Rules That We Are Not Approving,” we noted an inadvertent word-swap in the language proposed for chapter 14, subsection 3(a) addressing reclamation of drill sites and ancillary roads: specifically, the word “location” was used instead of the previously approved word “condition,” rendering the rule illogical. We also noted Wyoming, in referencing its own “Land Quality Division Coal Rules and Regulations” in the language proposed for chapter 14, subsections 3(c), 3(d), 3(e), and 4(d), omitted the word “Division” and that made the title of these regulations incomplete.

As laid out in the final rule, by letter dated October 24, 2023, we informed Wyoming of these typographical errors and the need to correct them, while offering to delay rulemaking under WY-050-FOR to accommodate the corrections. Wyoming responded by letter dated November 22, 2023, that, although they had taken the initial steps to address our concerns, the State's internal rulemaking processes would preclude Wyoming from making the corrections within the allowable timeframe. Wyoming subsequently undertook rulemaking to correct the minor errors; the revised rules were approved by the Environmental Quality Council on October 23, 2024, filed with the Wyoming Secretary of State on January 3, 2025, and transmitted to OSMRE on January 22, 2025. In the January 22, 2025, revisions, Wyoming included additional minor corrections noted during our initial review of the original amendment and communicated to the State by email on July 27, 2021. Specifically, we pointed out that in the language proposed for chapter 14, subsection 2(e)(iii), the word “part” was misspelled “peart;” at subsection 2(g), the punctuation directly after the first use of “shall” should probably have been a colon instead of a semicolon; and at subsection 2(h), the punctuation directly after the second use of the term “material” should probably have been a period instead of a comma.

During our initial review of the January 22, 2025, revision package, we noticed a new typographical error that was introduced during the rulemaking to correct the previously identified errors. Specifically, in the required correction to chapter 14, subsection 3(e), in referencing its Land Quality Division Coal Rules and Regulations, Wyoming transposed the words “Coal” and “Division” forming the incorrect title for these regulations as “Land Quality Coal Division Rules and Regulations.” We communicated this discrepancy to the State, which was able to make the correction using its streamlined process for non-substantive changes that do not require formal rulemaking. Accordingly, on February 7, 2025, Wyoming retransmitted a corrected copy of the January 22, 2025, submittal.

The full text of the program amendment is available for you to read at the locations listed above under ADDRESSES or at www.regulations.gov.

III. Public Comment Procedures

Under the provisions of 30 CFR 732.17(h), we are seeking your comments on whether the amendment satisfies the applicable program approval criteria of 30 CFR 732.15. If we approve the amendment, it will become part of the Wyoming program.

Electronic or Written Comments

If you submit written or electronic comments on the proposed rule during the 30-day comment period, they should be specific, confined to issues pertinent to the proposed regulations, and explain the reason for any recommended change(s). We appreciate any and all comments, but those most useful and likely to influence decisions on the final regulations will be those that either involve personal experience or include citations to and analyses of SMCRA, its legislative history, its implementing regulations, case law, other pertinent State or Federal laws or regulations, technical literature, or other relevant publications.

We cannot ensure that comments received after the close of the comment period (see DATES) or sent to an address other than those listed (see ADDRESSES) will be included in the docket for this rulemaking and considered.

Public Availability of Comments

Before including your address, phone number, email address, or other personal identifying information in your comment, you should be aware that your entire comment including your personal identifying information may be made publicly available at any time. While you can ask us in your comment to withhold your personal identifying information from public review, we cannot guarantee that we will be able to do so.

Public Hearing

If you wish to speak at the public hearing, contact the person listed under FOR FURTHER INFORMATION CONTACT by 4:00 p.m. MDT on July 14, 2025. If you are disabled and need reasonable accommodations to attend a public hearing, contact the person listed under FOR FURTHER INFORMATION CONTACT. We will arrange the location and time of the hearing with those persons requesting the hearing. If no one requests an opportunity to speak, we will not hold a hearing.

To assist the transcriber and ensure an accurate record we request, if possible, that each person who speaks at the public hearing provide us with a written copy of their comments. The public hearing will continue until everyone scheduled to speak has been given an opportunity to be heard. If you are in the audience and have not been scheduled to speak and wish to do so, you will be allowed to speak after those who have been scheduled. We will end the hearing after everyone scheduled to speak, and others present in the audience who wish to speak, have been heard.

Public Meeting

If only one person requests an opportunity to speak, we may hold a public meeting rather than a public hearing. If you wish to meet with us to discuss the amendment, please request a meeting by contacting the person listed under FOR FURTHER INFORMATION CONTACT. All such meetings are open to the public and, if possible, we will post notices of meetings at the locations listed under ADDRESSES. We will make a written summary of each meeting a part of the administrative record.

IV. Statutory and Executive Order Review

Executive Order 12866—Regulatory Planning and Review and Executive Order 13563—Improving Regulation and Regulatory Review

Executive Order 12866 provides that the Office of Information and Regulatory Affairs in the Office of Management and Budget (OMB) will review all significant rules. Pursuant to OMB guidance dated October 12, 1993 (OMB Memo M-94-3), the approval of State program amendments is exempted from OMB review under Executive Order 12866. Executive Order 13563, which reaffirms and supplements Executive Order 12866, retains this exemption.

Other Laws and Executive Orders Affecting Rulemaking

When a State submits a program amendment to OSMRE for review, our regulations at 30 CFR 732.17(h) require us to publish a notice in the Federal Register indicating receipt of the proposed amendment, its text or a summary of its terms, and an opportunity for public comment.

We conclude our review of the proposed amendment after the close of the public comment period and determine whether the amendment should be approved, approved in part, or not approved. At that time, we will also make the determinations and certifications required by the various laws and executive orders governing the rulemaking process and include them in the final rule.

List of Subjects in 30 CFR Part 950

State regulatory program approval, State-Federal cooperative agreement, Required program amendments.

Marcelo Calle,
Acting Regional Director, Unified Regions 5, 7-11.

[FR Doc. 2025-11906 Filed 6-26-25; 8:45 am]

BILLING CODE 4310-05-P